DEPARTMENT OF TRANSPORTATION

Federal Aviation Administration

14 CFR Part 67

[Docket No. FAA-2012-0245]

Notice of Intent To Discontinue Use of Paper Applications for Airman Medical Certification

AGENCY: Federal Aviation Administration (FAA), DOT.

ACTION: Notice of intent

SUMMARY: The Federal Aviation Administration is providing public notice regarding its intent to discontinue use of the paper version of FAA Form 8500-8, the application form used to apply for FAA medical certification. Maintaining FAA Form 8500-8 for applicants to complete manually is burdensome not only in terms of the cost involved, but also in terms of the complex logistics and use of Agency resources involved. This burden becomes all the more compounded when the form must be revised, reprinted, and redistributed (worldwide). The FAA launched an on-line FAA Form 8500-8 application known as “FAA MedXpress” beginning in 2007. Since 2007, “FAA MedXpress” has evolved considerably, streamlining FAA medical certification into a much more efficient and seamless process, thereby rendering the paper process both redundant and obsolete. Discontinuing print of FAA Form 8500-8 will save considerable resources and improve the efficiency of the airman medical certification process.

DATES: This action goes into effect on October 1, 2012. It should be noted, however, that “FAA MedExpress” already is fully operational and ready for use.

ADDRESSES: You can obtain an electronic copy of this document by—

1. Searching the Federal eRulemaking Portal at http://www.regulations.gov;

2. Accessing the Government Printing Office's Web page at http://www.gpo.gov/fdsys/browse/collection.action?collectionCode=FR; or

3. Contacting the person identified in the FOR FURTHER INFORMATION CONTACT section of this document.

FOR FURTHER INFORMATION CONTACT: Judi Citrenbaum, Office of Aerospace Medicine, Federal Aviation Administration, 800 Independence Avenue SW., Washington, DC 20591; telephone (202) 267-9689; email Judi.M.Citrenbaum@faa.gov.

SUPPLEMENTARY INFORMATION: The FAA receives and reviews annually more than 400,000 applications for airman medical certification. Until 2007, the only available means for making application was for applicants to manually complete an FAA Form 8500-8 provided by an FAA-designated Aviation Medical Examiner (AME) at the time of medical examination and for AMEs to record the results of the applicant's medical examination on the reverse side of application form manually. Since 2007, when the FAA launched a digital version of FAA Form 8500-8, applicants have been able to complete the form prior to an appointment with an AME for an FAA medical examination by accessing it on line using a secure, password-protected FAA system, known as “FAA MedXpress.” At the time of the medical examination, therefore, an AME merely accesses the applicant's completed and securely stored FAA Form 8500-8 in “FAA MedXpress” and uses it to complete the medical examination and record the results. “FAA MedXpress” also provides both applicants and AMEs the capability to print the form for whatever purpose needed.

FAA Form 8500-8 is considered one of the most complex of paper forms still in use in the Federal Government. More than 5 years of experience with “FAA MedXpress” has streamlined the FAA medical certification process into a more seamless and efficient process. Having digitized data, rather than handwritten copy, reduces the risk of errors being made by applicants, AME staff, and AMEs in processing the examination. Using “FAA MedXpress” exclusively will allow the FAA to make and implement any needed or mandated changes to the FAA Form 8500-8 in a more timely manner, resulting in a more dynamic form and eliminating the considerable cost and logistical challenges involved with printing and distributing the form both within and outside of the United States. Whenever the form must be revised, the initial reprinting and redistribution of approximately 1.5 million revised forms worldwide is very costly and considerable waste is incurred disposing of superseded forms.

Many federal forms, including FAA forms, (such as applications for pilot certificates and ratings) are now fully automated. Use of on-line applications in the private sector also is fairly standard—such as applications to academic institutions; for car loans; for mortage application and refinancing; for employment, and the like. Fully automating the FAA airman medical certification application process will improve efficiency, lead to reduced errors with applicant data, allow for more seamless processing, and save considerable resources by eliminating the recurrent cycle of printing, distributing, reprinting, and redistributing paper forms.

Individuals who may not be familiar with “FAA MedXpress” may access it on the FAA public Web site at https://medxpress.faa.gov.

Issued in Washington, DC, on March 1, 2012.
Frederick E. Tilton,
Federal Air Surgeon.

[FR Doc. 2012-5655 Filed 3-7-12; 8:45 am]

BILLING CODE 4910-13-P